DEPARTMENT OF ENERGY

Federal Energy Regulatory Commission

[Docket No. RP02-361-017]

Gulfstream Natural Gas System, L.L.C.; Notice of Further Extension of Time

May 12, 2004.

On April 23, 2004, Gulfstream Natural Gas System, L.L.C. (Gulfstream) filed a motion for a further extension of time to comply with the Commission's Order (Order) issued December 24, 2003, in the above-docketed proceeding. The Commission's Order directed Gulfstream to revise and re-file the negotiated rate letter agreement with Calpine Energy Services, L.P. (Calpine), along with supplemental information, within 30 days of the date of the Order. The motion states that Gulfstream and Calpine have exchanged drafts of the revised agreement and anticipate that the parties will soon resolve all outstanding issues. Gulfstream requests additional time to address these issues and file the revised negotiated rate agreement and supplemental information.

On January 28, 2004, and February 25, 2004, the Commission issued notices extending the date for Gulfstream to file the revised agreement to February 23, 2004, and March 24, 2004, respectively. On March 25, 2004, the Commission issued a notice further extending the filing date to April 23, 2004. Upon consideration, notice is hereby given that a further extension of time for Gulfstream to file the revised agreement and supplemental information is granted to and including May 24, 2004, as requested by Gulfstream.

Magalie R. Salas,
Secretary.

[FR Doc. E4-1195 Filed 5-20-04; 8:45 am]

BILLING CODE 6717-01-P